DEPARTMENT OF JUSTICE

Antitrust Division

Notice Pursuant to the National Cooperative Research and Production Act of 1993—eManufacturing Security Framework (Formerly Semiconductor Equipment and Materials International)

Notice is hereby given that, on March 5, 2003, pursuant to section 6(a) of the National Cooperative Research and Production Act of 1993, 15 U.S.C. 4301 et seq. (“the Act”), Semiconductor Equipment and Materials International has filed written notifications simultaneously with the Attorney General and the Federal Trade Commission disclosing changes in its name and membership status. The notifications were filed for the purpose of extending the Act's provisions limiting the recovery of antitrust plaintiffs to actual damages under specified circumstances. Specifically, Semiconductor Equipment and Materials International, San Jose, CA, has been dropped as a party to this venture and Advanced Micro Devices, Inc. (AMD), one of the partners, has assumed the principal investigation and administrative role in the research and development project. In addition, the venture has been renamed and will henceforth be called the eManufacturing Security Framework.

No other changes have been made in either the membership or planned activity of the group research project. Membership in this group research project remains open, and eManufacturing Security Framework (formerly Semiconductor Equipment and Materials International (SEMI)) intends to file additional written notification disclosing all changes in membership.

On January 8, 2002, eManufacturing Security Framework (formerly Semiconductor Equipment and Materials International (SEMI)) filed its original notification pursuant to Section 6(a) of the Act. The Department of Justice published a notice in the Federal Register pursuant to Section 6(b) of the Act on March 8, 2002 (67 FR 10762).

The last notification was filed with the Department on July 3, 2002. A notice was published in the Federal Register pursuant to section 6(b) of the Act on August 13, 2002 (67 FR 52746).

Constance K. Robinson,
Director of Operations, Antitrust Division.

[FR Doc. 03-8266 Filed 4-3-03; 8:45 am]

BILLING CODE 4410-11-M